DEPARTMENT OF THE INTERIOR

National Park Service

[NPS-NER-FIIS-18941; PXXNR5E2150001]

Notice of Availability of the Final White-Tailed Deer Management Plan and Environmental Impact Statement, Fire Island National Seashore, New York

AGENCY: National Park Service, Interior.

ACTION: Notice of availability.

SUMMARY: The National Park Service (NPS) announces the availability of the Final White-tailed Deer Management Plan and Environmental Impact Statement (Final Plan/EIS) for Fire Island National Seashore, New York. The Final Plan/EIS identifies Alternative D as the NPS preferred alternative. When approved, the management plan will guide management of white-tailed deer at Fire Island National Seashore through the use of integrated tools and strategies to control the deer population and support preservation of the natural and cultural landscape, protection and restoration of native vegetation and other natural and cultural resources.

DATES: The NPS will prepare a Record of Decision (ROD) no sooner than 30 days following publication by the Environmental Protection Agency of a Notice of Availability of the Final Plan/EIS in the Federal Register.

ADDRESSES: The Final Plan/EIS is available electronically at http://www.parkplanning.nps.gov/fiis. A limited number of printed copies will be available upon request by contacting the Superintendent's office.

FOR FURTHER INFORMATION CONTACT: Morgan Elmer, NPS Denver Service Center, 303-969-2317, Morgan_Elmer@nps.gov.

SUPPLEMENTARY INFORMATION: Fire Island National Seashore (the Seashore), a unit of the National Park System, is located along the south shore of Long Island in Suffolk County, New York. The Seashore encompasses 19,579 acres of upland, tidal, and submerged lands along a 26-mile stretch of the 32-mile barrier island—part of a much larger system of barrier islands and bluffs stretching from New York City to the very eastern end of Long Island at Montauk Point. The Seashore sustains a white-tailed deer (Odocoileus virginianus) population that has expanded since the late 1960s to the extent that impacts from high densities of deer have been, and continue to be, a complex issue for National Park Service (NPS) managers. As a result, pursuant to the National Environmental Policy Act of 1969 (NEPA), the Seashore prepared a Draft White-tailed Deer Management Plan and Environmental Impact Statement (Draft Plan/EIS) to develop a deer management strategy that supports preservation of the natural and cultural landscape through population management and the protection of native vegetation. The Draft Plan/EIS was prepared in cooperation with the New York State Department of Environmental Conservation (NYS-DEC) and the U.S. Department of Agriculture (USDA) Animal and Plant Health Inspection Services (APHIS).

The NPS released the Draft Plan/EIS for public and agency review and comment beginning July 31, 2014 and ending October 10, 2014. The Draft Plan/EIS evaluated a no action alternative (A) and three action alternatives (B, C, and D). Each action alternative presented a different strategy to protect native plant communities and cultural plantings, promote forest regeneration, further reduce undesirable human-deer interactions, and reduce the deer population in the Seashore.

Alternative A would continue existing deer management and monitoring efforts throughout the Seashore. These actions include continued public education/interpretation efforts, vegetation monitoring, and deer population and behavior surveys.

Alternative B provides a nonlethal deer reduction option to implement nonsurgical reproductive control of does when an acceptable reproductive control agent is available that meets NPS established criteria. Large fence exclosures would also protect forested areas and vegetation to allow restoration of the maritime holly forest, other natural vegetation and the culturally important vegetation at the William Floyd Estate.

Alternative C provides a lethal deer reduction option through the use of sharpshooting with firearms, and possible capture and euthanasia to reduce deer populations to the target density and maintain that level.

Alternative D, identified as the NPS preferred alternative, provides a combined lethal and nonlethal deer reduction option through the use of sharpshooting with firearms, and possible capture and euthanasia to reduce deer populations to a desirable level. Once the target density has been reached, use of nonsurgical reproductive control of does may be used to maintain that level when an acceptable reproductive control agent is available that meets NPS established criteria.

Comments were accepted on the Draft Plan/EIS during the 60-day public comment period. After reviewing and considering all comments received, the NPS has prepared this Final White-tailed Deer Management Plan and Environmental Impact Statement (Final Plan/EIS). The Final Plan/EIS identifies Alternative D as the NPS preferred alternative with no changes from the Draft Plan/EIS and presents the likely environmental consequences of implementing the preferred alternative, as well as the other alternatives considered. The Final Plan/EIS also discusses the comments received on the Draft Plan/EIS and responds to substantive comments.

Dated: August 5, 2015.
Michael A. Caldwell,
Regional Director, Northeast Region, National Park Service.

[FR Doc. 2015-32970 Filed 12-30-15; 8:45 am]

BILLING CODE 4310-WV-P